DEPARTMENT OF JUSTICE

Membership of the Senior Executive Service and Senior Level Standing Performance Review Boards

AGENCY: Department of Justice.

ACTION: Notice of Department of Justice's standing members of the Senior Executive Service and Senior Level Performance Review Boards.

SUMMARY: Pursuant to the requirements of 5 U.S.C. 4314(c)(4), the Department of Justice announces the membership of its 2025 Senior Executive Service (SES) and Senior Level (SL) Standing Performance Review Boards (PRBs). The purpose of a PRB is to provide fair and impartial review of SES and SL performance appraisals, executive development plans, and award recommendations/pay adjustments. The PRBs will make recommendations regarding the final performance ratings to be assigned, SES/SL awards and/or pay adjustments to be awarded.

FOR FURTHER INFORMATION CONTACT: F. Michael Sena, Director, Human Resources, Justice Management Division, Department of Justice, Washington, DC 20530; (202) 532-4594.

Dated: September 29, 2025.
Christopher C. Alvarez,
Deputy Assistant Attorney General Controller.

2025 Federal Register

List of Names (Alphabetical Order)

Alvarez, Christopher C

Armington, Elizabeth J

Bass, Pamela M

Bell, Daniel William

Bhirud, Ketan Dinkar

Boatright, Daniel S

Bolden, Scott D

Brewer, Laurence Neil

Brown, Gregory W

Burke, Claudia

Chestnut, Brendan Tyler

Conklin, Hayley Catherine

Connelly Jr, Robert L

Cypher, Catharine Delynn

D'Alessio Jr, Carmine S

Danks, Ryan J

Dauphin, Dennis E

Davis, Patrick David

Deas, Geoffrey S

Dunlap, James L

Ensign, Drew C

Farrell, Sean M

Feldt, Dennis G

Fox, Jordan N

Freeman, Mark R

Gates, Michael E

Gaulke, Frances

Gilbert, Curtis

Glad, Daniel W

Glynn, John P

Griffith, L Cristina

Gunning, Christine

Gustafson, Adam Rabun Fast

Guynn, Jonathan D

Haar, Daniel E

Haas, Alexander K

Hamilton, Eric James

Hanson, Alan Ross

Harris, Sarah

Hemingway, Jonathan

Henneberg, Maureen A

Hockey Jr, Martin F

Huntley, Colin M

Jag, Rachel Louise

Jamison, Tara M

Kallay, Dina

Kambli, Abhishek Shrikrishnak

Kelly, Richard T

Kendler, Owen M

Lampard, Ronald J

Latour, Michelle E G

Lauria, Jolene Ann

Lawrence, David G B

Lawson, Richard Polk

Lea, Brian Charles

Leider, Brenna E

Leider, Robert Jonathan

Leverty, Scott James

Lin, Jean

Lyons, Samuel R

Malphrus, Garry

Manhardt, Kirk T

Mao, Andy J

Macklin, James

Marshall III, William K

Marshall, Lynda K

Martin Jr, Edward R

Mason, Elisa

Maxey, Peter M

McArthur, Eric D

McCarthy, Andrea W

McCarthy, Patricia M

McHenry, James

Mehta, Aditi M

Merkle, Phillip K

Messersmith, Cynthia

Miller, Gwendolyn S

Mizelle, Chad R

Molina Jr, Ernesto H

Mooppan, Hashim Mandayappura

Moosvi, Tabasum

Nguyen, Vu T

Nieves, Brian David

O'Brien, Holley B

Osete, Jesus A

Peachey, William C

Pearlman, Heather L

Pelletier, Jonathan

Perkins, Paul R

Peterson, Amanda M

Pettit, Lanora Christine

Price Jr, Marvin N

Raab, Michael S

Roper, Matthew J

Roth, Jacob M

Sanghvi, Chetan

Sawyer, Aaron Y

Scott, Kevin M.

Sena, Francis Michael

Shapiro, Elizabeth J

Shumate, Brett A

Singh, Aakash

Smith, Joshua J

Snell, Robert S

Stander, Robert Nolan

Swingle, Sharon M

Torstensen Jr, Peter Martin

Turkel, Allison L

Varisco, Matthew

Whitaker, Henry C

Wilkinson, James

Williams, Michael J

Yavelberg, Jamie A

[FR Doc. 2025-19298 Filed 10-1-25; 8:45 am]

BILLING CODE 4410-CH-P